DEPARTMENT OF HEALTH AND HUMAN SERVICES

Indian Health Service

Dental Preventive and Clinical Support Centers Program; Correction

AGENCY: Indian Health Service, HHS.

ACTION: Notice; correction.

SUMMARY: The Indian Health Service published a document in the Federal Register on June 5, 2015 for the FY 2015 New and Competing Continuation Funding Announcement for the Dental Preventive and Clinical Support Centers Program. The notice contained incorrect dates.

FOR FURTHER INFORMATION CONTACT: Patrick Blahut, DDS, MPH, Deputy Director, IHS Division of Oral Health, 801 Thompson Avenue, Suite 332, Rockville, MD 20852, Telephone: (301) 443-4323. (This is not a toll-free number.)

Corrections

In the Federal Register of June 5, 2015, 80 FR 32160, under the heading “Key Dates” replace the following dates to read as follows:

“Application Deadline Date: August 5, 2015,” “Anticipated Review Dates: August 12-14, 2015,” “Signed Tribal Resolutions Due Date: August 5, 2015,” and “Proof of Non-Profit Status Due Date: August 5, 2015.”

Dated: June 12, 2015.
Robert G. McSwain,
Acting Director, Indian Health Service.

[FR Doc. 2015-15156 Filed 6-18-15; 8:45 am]

BILLING CODE 4165-16-P